DEPARTMENT OF TRANSPORTATION

Federal Aviation Administration

14 CFR Part 39

[Docket No. FAA-2010-1310; Directorate Identifier 2010-NM-067-AD]

RIN 2120-AA64

Airworthiness Directives; Empresa Brasileira de Aeronautica S.A. (EMBRAER) Model ERJ 170 and ERJ 190 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

It has been reported during operational checks that some failures of the Escape Slide * * * installed on the forward passenger and service door have occurred which prevented the door from opening.

* * * [T]his condition * * * could delay an emergency evacuation and increase the chance of injury to passengers and flight crew * * *.

The proposed AD would require actions that are intended to address the unsafe condition described in the MCAI.

DATES: We must receive comments on this proposed AD by February 28, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Empresa Brasileira de Aeronautica S.A. (EMBRAER), Technical Publications Section (PC 060), Av. Brigadeiro Faria Lima, 2170-Putim-12227-901 São Jose dos Campos-SP—BRASIL; telephone +55 12 3927-5852 or +55 12 3309-0732; fax +55 12 3927-7546; e-mail distrib@embraer.com.br; Internet: http://www.flyembraer.com.

You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Kenny Kaulia, Aerospace Engineer, International Branch, ANM-116, Transport Airplane Directorate, FAA, 1601 Lind Avenue, SW., Renton, Washington 98057-3356; telephone (425) 227-2848; fax (425) 227-1149.

SUPPLEMENTARY INFORMATION:

Comments Invited

We invite you to send any written relevant data, views, or arguments about this proposed AD. Send your comments to an address listed under the ADDRESSES section. Include “Docket No. FAA-2010-1310; Directorate Identifier 2010-NM-067-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The Agência Nacional de Aviação Civil (ANAC), which is the aviation authority for Brazil, has issued Brazilian Airworthiness Directive 2009-11-01, dated November 30, 2009, applicable to Model ERJ 170 airplanes; and Airworthiness Directive 2009-08-02, dated August 18, 2009, applicable to Model ERJ 190 airplanes; (referred to after this as “the MCAI”), to correct an unsafe condition for the specified products.

MCAI 2009-11-01 states:

It has been reported during operational checks that some failures of the Escape Slide P/N [part number] 4A4030-2 and P/N 4A4030-4 installed on the forward passenger and service door have occurred which prevented the door from opening.

Since this condition * * * could delay an emergency evacuation and increase the chance of injury to passengers and flight crew, a corrective action is required.

MCAI 2009-08-02 states:

It has been reported during operational checks some failures in the deployment of the Escape Slide P/N 104003-1 installed in the forward passenger and service door, preventing the door opening.

Since this condition * * * could impede an emergency evacuation and increase the chance of injury to passengers and flight crew, a corrective action is required.

The required actions include modifying the escape slides of the forward passenger and service doors, and doing boroscope inspections for damage of the aspirator body and inlet cross valve. Corrective actions include replacing the aspirator body. You may obtain further information by examining the MCAI in the AD docket.

Relevant Service Information

Goodrich Interiors has issued Service Bulletin 4A4030-25A379, dated August 10, 2009, for Model ERJ 170 airplanes; and Service Bulletin 104003-25A380, Revision 2, dated July 7, 2009, for Model ERJ 190 airplanes. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 236 products of U.S. registry. We also estimate that it would take about 12 work-hours per product to comply with the basic requirements of this proposed AD. The average labor rate is $85 per work-hour. Required parts would cost about $0 per product. Where the service information lists required parts costs that are covered under warranty, we have assumed that there will be no charge for these costs. As we do not control warranty coverage for affected parties, some parties may incur costs higher than estimated here. Based on these figures, we estimate the cost of the proposed AD on U.S. operators to be $240,720, or $1,020 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “subtitle VII, part A, subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Empresa Brasileira de Aeronautica S.A. (EMBRAER): Docket No. FAA-2010-1310; Directorate Identifier 2010-NM-067-AD.

Comments Due Date

(a) We must receive comments by February 28, 2011.

Affected ADs

(b) None.

Applicability

(c) This AD applies to Empresa Brasileira de Aeronautica S.A. (EMBRAER) airplanes as identified in paragraphs (c)(1) and (c)(2) of this AD, certificated in any category.

(1) Model ERJ 170-100 LR, -100 STD, -100 SE, and -100 SU airplanes; and Model ERJ 170-200 LR, -200 SU, and -200 STD airplanes; equipped with Goodrich escapes slide having part number (P/N) 4A4030-2 or P/N 4A4030-4.

(2) Model ERJ 190-100 STD, -100 LR, -100 ECJ, and -100 IGW airplanes; and Model ERJ 190-200 STD, -200 LR, and -200 IGW airplanes; equipped with Goodrich escapes slide having P/N 104003-1.

Subject

(d) Air Transport Association (ATA) of America Code 25: Equipment/furnishings.

Reason

(e) The mandatory continuing airworthiness information (MCAI) states:

It has been reported during operational checks that some failures of the Escape Slide * * * installed on the forward passenger and service door have occurred which prevented the door from opening.

* * * [T]his condition * * * could delay an emergency evacuation and increase the chance of injury to passengers and flight crew * * *.

Compliance

(f) You are responsible for having the actions required by this AD performed within the compliance times specified, unless the actions have already been done.

Actions

(g) Within 18 months after the effective date of this AD, modify the forward escape slide and do a boroscope inspection of the aspirator body and inlet cross valve, in accordance with the Accomplishment Instructions of the Goodrich service bulletin identified in paragraph (g)(1) or (g)(2) of this AD, as applicable. Do all applicable corrective actions before further flight.

(1) For any forward door escape slide having P/N 4A4030-2 or P/N 4A4030-4: Goodrich Service Bulletin 4A4030-25A379, dated August 10, 2009.

(2) For any forward door escape slide having P/N 104003-1: Goodrich Service Bulletin 104003-25A380, Revision 2, dated July 7, 2009.

Credit for Actions Accomplished in Accordance With Previous Service Information

(h) Actions accomplished before the effective date of this AD in accordance with Goodrich Service Bulletin 104003-25A380, Revision 1, dated April 15, 2009, are considered acceptable for compliance with the corresponding action specified in this AD.

Parts Installation

(i) After 6 months from the effective date of this AD, no airplane may operate with the forward door escape slide having P/N 4A4030-2 or P/N 4A4030-4 (for Model ERJ 170 airplanes), or P/N 104003-1 (for Model ERJ 190 airplanes), on which 18 months or more has elapsed from the slide date of manufacture (for slides that have not been repacked) or the date of last slide repack (for slides that have been repacked).

FAA AD Differences

Note 1: This AD differs from the MCAI and/or service information as follows:

No differences.

Other FAA AD Provisions

(j) The following provisions also apply to this AD:

(1) Alternative Methods of Compliance (AMOCs): The Manager, International Branch, ANM-116, Transport Airplane Directorate, FAA, has the authority to approve AMOCs for this AD, if requested using the procedures found in 14 CFR 39.19. Send information to ATTN: Kenny Kaulia, Aerospace Engineer, International Branch, ANM-116, Transport Airplane Directorate, FAA, 1601 Lind Avenue, SW., Renton, Washington 98057-3356; telephone (425) 227-2848; fax (425) 227-1149. Before using any approved AMOC on any airplane to which the AMOC applies, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(k) Refer to MCAI Brazilian Airworthiness Directive 2009-11-01, dated November 30, 2009; MCAI Brazilian Airworthiness Directive 2009-08-02, dated August 18, 2009; Goodrich Service Bulletin 4A4030-25A379, dated August 10, 2009; and Goodrich Service Bulletin 104003-25A380, Revision 2, dated July 7, 2009; for related information.

Issued in Renton, Washington, on January 6, 2011.
Ali Bahrami,
Manager, Transport Airplane Directorate, Aircraft Certification Service.

[FR Doc. 2011-584 Filed 1-12-11; 8:45 am]

BILLING CODE 4910-13-P